DEPARTMENT OF LABOR

Office of Federal Contract Compliance Programs

Notice of Reinstatement, Shapiro, DiCaro & Barak, LLP

AGENCY: Office of Federal Contract Compliance Programs, U.S. Department of Labor.

ACTION: Notice of reinstatement, Shapiro, DiCaro & Barak, LLP.

SUMMARY: This notice advises that, Shapiro, DiCaro & Barak, LLP has been reinstated as an eligible bidder on Federal contracts and subcontracts. For further information, contact Debra Carr, Director, Division of Policy and Program Development, Office of Federal Contract Compliance Programs, 200 Constitution Avenue NW., Room C3325, Washington, DC 20210. Telephone: (202) 693-0104 (voice) or (202) 693-1337 (TTY) (these are not toll-free numbers).

SUPPLEMENTARY INFORMATION: Shapiro, DiCaro & Barak, LLP, is as of this date, reinstated as an eligible bidder on Federal and federally assisted contracts and subcontracts.

Dated: July 19, 2017, Washington, DC.
Debra A. Carr,
Director, Division of Policy and Program Development, Office of Federal Contract Compliance Programs.

[FR Doc. 2017-15878 Filed 7-26-17; 8:45 am]

BILLING CODE 4510-CM-P